DEPARTMENT OF JUSTICE

[AAG/A Order No. 267-2002]

Privacy Act of 1974; System of Records

Pursuant to the provisions of the Privacy Act of 1974 (5 U.S.C. 552a), notice is given that the Department of Justice proposes to establish a new system of records entitled “Reasonable Accommodations for the Department of Justice (DOJ),” Justice/DOJ-007. The purpose of publishing this Department-wide notice is to begin to record requests made by applicants and employees for reasonable accommodation on the basis of a disability, the disposition of the requests, and reasonable accommodations provided.

In accordance with 5 U.S.C. 552a(e)(4) and (11), the public is given a 30-day period in which to comment; and the Office of Management and Budget (OMB), which has oversight responsibility under the Act, requires a 40-day period in which to conclude its review of the system. Therefore, please submit any comments by June 17, 2002. The public, OMB, and the Congress are invited to submit any comments to Mary E. Cahill, Management and Planning Staff, Justice Management Division, Department of Justice, Washington, DC 20530 (Room 1400, National Place Building).

In accordance with 5 U.S.C. 552a(r), the Department has provided a report to OMB and the Congress.

Dated: May 8, 2002.
Robert F. Diegelman,
Acting Assistant Attorney General for Administration.

JUSTICE/DOJ-007

System Name:

Reasonable Accommodations for the Department of Justice (DOJ), JUSTICE/DOJ-007.

System Locations:

Records are maintained by designated Component Accommodation Coordinators in Department of Justice offices throughout the country. Records may be accessed by contacting the System Manager at the following address: U.S. Department of Justice, 950 Pennsylvania Ave., NW., Washington, DC 20530. (See Record Access Procedures below.)

Categories of Individuals Covered by the System:

Department of Justice employees and applicants who make requests for reasonable accommodation on the basis of a disability.

Categories of records in the system:

Records in this system include identifying information regarding persons requesting reasonable accommodations (e.g., requestor's name, title/series/grade, telephone number, date of request, e-mail address, office, description of accommodation requested, and reason for request) and the status of the response within the Department. Records in this system may include: The original written request; the Department's response; the name, title and telephone number of office or staff members deciding or referring the matter; related letters/memoranda; copies of any enclosures/attachments, including medical records; the date an accommodation request was approved or denied; the reason a request was denied; the date an accommodation was provided; whether the recommended time frames were met as outlined in the Reasonable Accommodation Procedures; the reason the reasonable accommodation was needed; the type(s) of reasonable accommodation requested; the type(s) of accommodation provided; the source of technical assistance; whether medical or other appropriate supporting information was required to process the request, and if so, an explanation of why it was required; and other request-related information.

Authority for Maintenance of the System:

The Rehabilitation Act of 1973, as amended, 29 U.S.C. 791; Executive Order 13164; Equal Employment Opportunity Commission's Policy Guidance on Executive Order 13164: Establishing Procedures to Facilitate the Provision of Reasonable Accommodation, Directives Transmittal Number 915.003, October 20, 2000.

Purpose of the System:

The system documents and tracks requests made to the Department for reasonable accommodation, and action taken by the Department in response to the requests. It also serves as a reference source for inquiries and responses thereto on a “need to know” basis only. The Accommodation Coordinator(s) in each component of the Department will use these records to develop cumulative records, without individual identifiers, to track performance in regard to the provision of reasonable accommodation by the Department.

Routine Uses of Records Maintained in the System, including Categories of Users and the Purposes of such Uses:

Pursuant to subsection (b)(3) of the Privacy Act, information may be disclosed from this system as follows:

A. To the news media and the public pursuant to 28 CFR 50.2 unless it is determined that release of the specific information in the context of a particular case would constitute an unwarranted invasion of personal privacy.

B. To a Member of Congress or staff acting upon the Member's behalf when the Member or staff requests the information on behalf of an individual who is the subject of the record.

C. To the General Services Administration and National Archives and Records Administration in records management inspections conducted under the authority of 44 U.S.C. 2904 and 2906.

D. Where a record, either on its face or in conjunction with other information, indicates a violation or potential violation of law, to any civil or criminal law enforcement authority or other appropriate agency, whether federal, state, local, foreign, or tribal, charged with the responsibility of investigating or prosecuting such a violation or enforcing or implementing a statute, rule, regulation, or order.

E. In an appropriate proceeding before a court, grand jury, or administrative or regulatory body when records are determined by DOJ to be arguably relevant to the proceeding.

F. To an actual or potential party to litigation or the party's authorized representative for the purpose of negotiation or discussion on such matters as settlement, plea bargaining, or in informal discovery proceedings.

G. To a federal agency or entity that requires information relevant to a decision concerning the hiring, appointment, or retention of an employee, the issuance of a security clearance, the conduct of a security or suitability investigation, or pursuit of other appropriate personnel matter.

H. To a federal, state, local, or tribal agency or entity that requires information relevant to a decision concerning the letting of a license or permit, the issuance of a grant or benefit, or other need for the information in performance of official duties.

I. To contractors, grantees, experts, consultants, students, and others performing or working on a contract, service, grant, cooperative agreement, or other assignment for the Federal Government, when necessary to accomplish an agency function related to this system of records.

J. To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

K. To the White House (the President, Vice President, their staffs, and other entities of the Executive Office of the President (EOP)) for Executive Branch coordination of activities which relate to or have an effect upon the carrying out of the constitutional, statutory, or other official or ceremonial duties of the President.

L. To such recipients and under such circumstances and procedures as are mandated by federal statute or treaty.

Policies and Practices for Storing, Retrieving, Accessing, Retaining, and Disposing of Records in the System:

Storage:

Records are stored in paper files and may be entered into an electronic database in the future.

Retrievability:

Information can be retrieved by name of the individual making a request for reasonable accommodation; in the case of electronic databases, information may possibly be retrieved by other identifying search terms employed.

Safeguards:

Information in this system is safeguarded in accordance with applicable rules and policies, including the Department's automated systems security and access policies. In general, records and technical equipment are maintained in buildings with restricted access. The required use of password protection identification features and other system protection methods also restricts access to electronic information. Access is limited to those who have an official need for access to perform their official duties.

Retention and Disposal:

Records are retained and disposed of in accordance with the Equal Employment Opportunity Commission's Policy Guidance on Executive Order 13164: Establishing Procedures to Facilitate the Provision of Reasonable Accommodation, Directives Transmittal Number 915.003, October 20, 2000. Records prepared by Accommodation Coordinators will be kept for a minimum of three years in accordance with General Records Schedule 1, Item 25g, as approved by the National Archives and Records Administration. Records related to a particular individual's accommodation request will be kept for the duration of the individual's employment. Applicant information that does not result in an appointment is kept in accordance with General Records Schedule 1, Item 15. The records in this system are confidential and will be kept separate and apart from the individual's personnel file.

System Manager and Address:

Director, Equal Employment Opportunity Staff, Justice Management Division, 950 Pennsylvania Ave., NW., Washington, DC 20530-0001.

Notification Procedures:

Address inquiries to System Manager named above.

Record Access Procedures:

Requests for access must be in writing and should be addressed to the System Manager named above. The envelope and letter should be clearly marked “Privacy Act Access Request.” The request should include a general description of the records sought, including the component where the records reside, if known (generally the employing component), and must include the requestor's full name, current address, and date and place of birth. The request must be signed and either notarized or submitted under penalty of perjury.

Contesting Record Procedures:

Individuals desiring to contest or amend information maintained in the system should direct their request to the System Manager listed above, stating clearly and concisely what information is being contested, the reasons for contesting it, and the proposed amendment to the information sought.

Record Source Categories:

Record Source Categories: Sources of information include individuals who make written requests for reasonable accommodation, and supporting documentation from, for instance, rehabilitation counselors and Department decision makers (i.e., usually first line supervisors).

Systems Exempted from Certain Provisions of the Act:

None.

[FR Doc. 02-12260 Filed 5-15-02; 8:45 am]

BILLING CODE 4410-FB-P